DEPARTMENT OF COMMERCE

National Institute of Standards and Technology

Public Meeting Announcing a Workshop for the Analysis of Modes of Operation for Symmetric Key Block Cipher Algorithms

AGENCY: National Institute of Standards and Technology, Commerce.

ACTION: Notice of public workshop.

SUMMARY: The National Institute of Standards and Technology (NIST) announces a workshop on modes of operation for securing data using symmetric key block cipher algorithms, such as the algorithm specified in the draft Advanced Encryption Standard (AES). Interested parties may suggest ideas or submit papers for discussion at the workshop, including proposals of modes of operation, to the address below.

DATES: The Second Modes of Operation Workshop will be held on August 24, 2001, from 9:00 a.m. to 5:00 p.m.

ADDRESSES: The workshop will be held at the Holiday Inn Santa Barbara, 5650 Calle Real, Goleta, California. Details regarding workshop registration will be available at the modes home page: http://csrc.nist.gov/encryption/aes/modes/. Suggestions, questions, comments or submissions should be sent to Modes of Operation Workshop, Attn: Elaine Barker, NIST, 100 Bureau Drive, Stop 8930, Gaithersburg, MD 20899-8930, or to EncryptionModes@nist.gov.

FOR FURTHER INFORMATION CONTACT: For further information, contact EncryptionModes@nist.gov or one of the following: Elaine Barker, NIST, 100 Bureau Drive, Stop 8930, Gaithersburg, MD 20899-8930; telephone 301-975-2911; fax 301-948-1233 or via e-mail at Elaine.barker@nist.gov; or Morris Dworkin 100 Bureau Drive, Stop 8930, Gaithersburg, MD 20899-8930; telephone 301-975-2354; fax 301-948-1233; or via e-mail at morris.dworkin@nist.gov.

SUPPLEMENTARY INFORMATION: Block ciphers can be used as building blocks for encryption modes and for other modes for securing data. For example, block ciphers can be used in the construction of message authentication codes, hash algorithms, and random bit generators. With the advent of new block ciphers, such as the AES, there is an opportunity to update such modes of operation for current and future applications and technology.

The purpose of this Federal Register notice is to announce a workshop on modes of operation for securing data using symmetric key block cipher algorithms, such as the algorithm specified in the draft Advanced Encryption Standard (AES). Prior to the workshop, suggestions and submissions from the public to aid NIST in planning an appropriate workshop and facilitate the comparison and analysis of block cipher modes of operation are welcome. The workshop will aid NIST in developing a standard or guideline that is secure and responsive to the needs of government, industry, and the public. NIST will consider for discussion at the workshop, at a minimum, the modes that were proposed at the October 20, 2000 public workshop on this topic. These are available at the modes home page, and NIST encourages public analysis of these modes.

The workshop may also consider other existing modes or their generalizations, or other modes that are proposed in comments and papers. It will be helpful to receive analysis and proposals for variations of counter mode, arising from alternative methods for prescribing the generation of counters. All suggestions received will be publicly available at the modes home page.

In order to encourage a common framework for comparison, a workshop approach to evaluate and analysis is available on the modes home page. NIST believes that participants in the upcoming workshop would be interested in comments that include statements regarding the intellectual property and/or licensing requirements of any proposed modes. Test vectors will also be useful, to provide analyzers of the modes a means to check the validity of their implementations. Fuller descriptions are available at the modes web site.

The results of the workshop will aid NIST's efforts to develop a complete “suite” of modes of operation from which individual modes can be selected to fit the needs of a wide range of applications and environments. The recommended modes are expected to support the eventual Advanced Encryption Standard (AES) and other block ciphers.

Submissions for discussion at the workshop should be made early enough to provide time to prepare the meeting agenda. Papers proposing new modes of operation are requested as soon as possible, to provide time for the analysis of the new proposals.

Authority: NIST's activities to develop computer security standards to protect sensitive (unclassified) systems are undertaken pursuant to specific responsibilities assigned to NIST in section 5131 of the Information Technology Management Reform Act of 1996 (P.L. 104-106), the Computer Security Act of 1987 (Pub. L. 100-235), and Appendix III to Office of Business Management Circular A-130.

Dated: March 19, 2001.
Karen Brown,
Acting Director, NIST.

[FR Doc. 01-7497 Filed 3-26-01; 8:45 am]

BILLING CODE 3510-CN-M